SMALL BUSINESS ADMINISTRATION

[Declaration of Disaster #3520]

Commonwealth of Kentucky; Amendment #1

In accordance with the notice received from the Department of Homeland Security—Federal Emergency Management Agency, effective June 27, 2003, the above numbered declaration is hereby amended to establish the incident period for this disaster as beginning on June 14, 2003 and continuing through June 27, 2003.

All other information remains the same, i.e., the deadline for filing applications for physical damage is September 2, 2003, and for economic injury the deadline is April 2, 2004.

(Catalog of Federal Domestic Assistance Program Nos. 59002 and 59008)
Dated: July 14, 2003.
Herbert L. Mitchell,
Associate Administrator for Disaster Assistance.

[FR Doc. 03-18326 Filed 7-17-03; 8:45 am]

BILLING CODE 8025-01-P